DEPARTMENT OF TRANSPORTATION

Federal Aviation Administration

14 CFR Part 39

[Docket No. FAA-2006-23841; Directorate Identifier 2005-NM-214-AD]

RIN 2120-AA64

Airworthiness Directives; Bombardier Model CL-600-2B19 (Regional Jet Series 100 & 440) Airplanes

AGENCY: Federal Aviation Administration (FAA), Department of Transportation (DOT).

ACTION: Notice of proposed rulemaking (NPRM).

SUMMARY: The FAA proposes to adopt a new airworthiness directive (AD) for certain Bombardier Model CL-600-2B19 (Regional Jet Series 100 & 440) airplanes. This proposed AD would require revising the Airworthiness Limitations section of the Instructions for Continuing Airworthiness of the Maintenance Requirements Manual to include revised threshold and repeat inspection intervals for the cargo door skin cut-out. This proposed AD results from a report that a crack was discovered at the lower forward corner of a cargo door skin cut-out during fatigue testing. We are proposing this AD to detect and correct cracking in the lower forward corner of the cargo door skin cut-out, which could result in reduced structural integrity of the airplane.

DATES: We must receive comments on this proposed AD by March 13, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Bombardier, Inc., Canadair, Aerospace Group, P.O. Box 6087, Station Centre-ville, Montreal, Quebec H3C 3G9, Canada, for service information identified in this proposed AD.

FOR FURTHER INFORMATION CONTACT: Richard Beckwith, Aerospace Engineer, Airframe and Propulsion Branch, ANE-171, FAA, New York Aircraft Certification Office, 1600 Stewart Avenue, suite 410, Westbury, New York 11590; telephone (516) 228-7302; fax (516) 794-5531.

SUPPLEMENTARY INFORMATION:

Comments Invited

We invite you to submit any relevant written data, views, or arguments regarding this proposed AD. Send your comments to an address listed in the ADDRESSES section. Include the docket number “FAA-2006-23841; Directorate Identifier 2005-NM-214-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

Transport Canada Civil Aviation (TCCA), which is the airworthiness authority for Canada, notified us that an unsafe condition may exist on Bombardier Model CL-600-2B19 (Regional Jet Series 100 & 440) airplanes, serial numbers 7003 and subsequent, on which Modsum TC601R16421 has not been incorporated. TCCA advises that during a complete-airplane fatigue test on a Model CL-600-2B19 (Regional Jet Series 100) airplane, a crack was discovered at the lower forward corner of the cargo door skin cut-out. This condition, if not corrected, could result in reduced structural integrity of the airplane.

Relevant Service Information

Bombardier has issued Canadair Regional Jet Temporary Revision (TR) 2B-2109, dated October 13, 2005, to Appendix B, “Airworthiness Limitations,” of the Canadair Regional Jet Maintenance Requirements Manual (MRM). The TR includes Airworthiness Limitations (AWL) Task 53-61-141, which revises thresholds and revises repeat inspection intervals for the cargo door skin cut-out. The cargo door skin cut-out is identified as a principal structural element. Accomplishing the actions specified in the service information is intended to adequately address the unsafe condition. TCCA mandated AWL Task 53-61-141 of the TR and issued Canadian airworthiness directive CF-2005-05, dated February 18, 2005, to ensure the continued airworthiness of these airplanes in Canada.

FAA's Determination and Requirements of the Proposed AD

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that we need to issue an AD for airplanes of this type design that are certificated for operation in the United States.

Therefore, we are proposing this AD, which would require accomplishing the actions specified in the service information described previously, except as discussed under “Differences Between the Proposed AD and the Canadian Airworthiness Directive.”

Differences Between the Proposed AD and the Canadian Airworthiness Directive

Although the Canadian airworthiness directive references TR 2B-2048 (which was later replaced by TR 2B-2084), this proposed AD would reference TR 2B-2109. TR 2B-2109 was issued after the Canadian airworthiness directive, and replaces both TR 2B-2048 and TR 2B-2084.

Although the Canadian airworthiness directive contains initial inspection threshold information in paragraph B. “Phase-In Schedule,” this proposed AD does not state that information because it is included in TR 2B-2109.

These differences have been coordinated with TCCA.

Costs of Compliance

The following table provides the estimated costs for U.S. operators to comply with this proposed AD.

Estimated Costs
Action | Work hours | Average labor rate per hour | Cost per airplane | Number of U.S.-registered airplanes | Fleet cost
AWL Revision | 1 | $65 | $65 | 738 | $47,970

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Bombardier, Inc. (Formerly Canadair): Docket No. FAA-2006-23841; Directorate Identifier 2005-NM-214-AD.

Comments Due Date

(a) The FAA must receive comments on this AD action by March 13, 2006.

Affected ADs

(b) None.

Applicability

(c) This AD applies to Bombardier Model CL-600-2B19 (Regional Jet Series 100 & 440) airplanes, serial numbers 7003 and subsequent, certificated in any category; on which Bombardier Modsum TC601R16421 or TC601R16422 has not been accomplished.

Unsafe Condition

(d) This AD results from a report that a crack was discovered at the lower forward corner of a cargo door skin cut-out during fatigue testing. We are issuing this AD to detect and correct cracking in the lower forward corner of the cargo door skin cut-out, which could result in reduced structural integrity of the airplane

Compliance

(e) You are responsible for having the actions required by this AD performed within the compliance times specified, unless the actions have already been done.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to the procedures specified in paragraph (g) of this AD. The request should include a description of changes to the required inspections that will ensure the continued damage tolerance of the affected structure. The FAA has provided guidance for this determination in Advisory Circular (AC) 25-1529.

Maintenance Requirements Manual Revision

(f) Within 30 days after the effective date of this AD, revise the Airworthiness Limitations (AWL) section (Appendix B) of the Instructions for Continuing Airworthiness of the Canadair Regional Jet Maintenance Requirements Manual (MRM), to include the information specified in AWL Task 53-61-141 in Canadair Regional Jet Temporary Revision (TR) 2B-2109, dated October 13, 2005. Thereafter, except as provided by paragraph (g) of this AD, no alternative structural inspection intervals may be approved for the cargo door skin cut-out.

Note 2: The actions required by paragraph (f) of this AD may be done by inserting a copy of TR 2B-2109 into the AWL section of the Canadair Regional Jet MRM. When the contents of TR have been included in general revisions of the MRM, the general revisions may be inserted in the MRM, provided the relevant information in the general revision is identical to that in TR 2B-2109.

Alternative Methods of Compliance (AMOCs)

(g)(1) The Manager, New York Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) Canadian airworthiness directive CF-2005-05, dated February 18, 2005, also addresses the subject of this AD.

Issued in Renton, Washington, on January 31, 2006.
Ali Bahrami,
Manager, Transport Airplane Directorate, Aircraft Certification Service.

[FR Doc. E6-1766 Filed 2-8-06; 8:45 am]

BILLING CODE 4910-13-P